DEPARTMENT OF HOUSING AND URBAN DEVELOPMENT

[Docket No. FR-5613-N-07]

Privacy Act of 1974; Proposed New Routine Use—HUD's Routine Use Inventory

AGENCY: Office of the Chief Information Officer, HUD.

ACTION: Proposal for new routine uses.

SUMMARY: Pursuant to the Privacy Act of 1974 (5 U.S.C. 552a), and Office of Management and Budget (OMB), Circular No. A-130, notice is hereby given that the Department of Housing and Urban Development, Office of the Chief Information Officer, is establishing 24 “blanket” routine uses to be applicable to more than one HUD system of records. The Department published on September 14, 2007 at 72 FR 52572 a notice to establish 1 blanket routine use proposal applicable to all its systems of records. This proposal provides an update to that proposal and is one of the steps required to establish a list of comprehensive and case specific routine uses for current and future system of records publications. Further, publishing this system notice will permit the Department to save cost, accomplish its mission, managerial, and other responsibilities more efficiently and effectively.

DATES: Effective date: This proposal shall be effective without further notice on August 16, 2012, unless comments are received on or before that date that would result in a contrary determination.

Comments Due Date: August 16, 2012.

ADDRESSES: Interested persons are invited to submit comments regarding this new routine use to the Rules Docket Clerk, Office of General Counsel, Department of Housing and Urban Development, 451 Seventh Street SW., Room 10276, Washington, DC 20410-0500. Communications should refer to the above docket number and title. Fax comments are not acceptable. A copy of each communication submitted will be available for public inspection and copying between 8:00 a.m. and 5:00 p.m. weekdays at the above address.

FOR FURTHER INFORMATION CONTACT: The Chief Privacy Officer, telephone number (202) 402-8073. (This is not a toll free number.)

SUPPLEMENTARY INFORMATION: The following routine uses describe those types of disclosures which are common to more than one HUD Privacy Act system of records at which HUD is establishing as “blanket” routine uses. Unless this or other published notice expressly provides otherwise, these blanket routine uses shall apply, without need of further implementation, to every HUD Privacy Act system of records. These blanket routine uses supplement but do not replace any routine uses that are separately published in the notices of individual record systems to which the blanket routine uses apply. HUD proposes blanket routine uses that will: (1) Permit the Department to accomplish its mission, managerial, and other responsibilities more efficiently and effectively; (2) minimize through use of standardized wording the potential for misunderstanding or misinterpretation which might arise from unintended variations in different versions of common routine uses; and (3) reduce cost and duplication of effort in the publication and maintenance of HUD's Privacy Act issuances; (4) revise and update Privacy Act record locations for its systems of records; and (5) present the information to the public and HUD Departmental offices in a structure that is easier to understand and use.

Pursuant to conditions of the Privacy Act, the routine uses are consistent with the collection of information pertaining to making such disclosures to individuals pursuant to requirements of the Privacy Act records, when, in doing so, it will help protect the interest of individuals, and improve the Department's ability to take the appropriate steps necessary to accomplish its mission and business requirements more efficiently and effectively.

Title 5 U.S.C. 552a(e)(r) and (11) requires that the public be afforded a 30 day period in which to comment on any new or amended use of information in a system of records, and require published notice of the existence and characters of the systems of records proposing the change. The new system report, as required by 5 U.S.C. 552a(r) of the Privacy Act was submitted to the Committee on Homeland Security and Governmental Affairs of the United States Senate, the Committee on Government Reform and Oversight of the House of Representatives, and the Office of Management and Budget (OMB) pursuant to paragraph 4c of Appendix I to OMB Circular No. A-130, Federal Agency Responsibilities for Maintaining Records about Individuals, dated June 25, 1993 (58 FR 36075, July 2, 1993). HUD deems the disclosure(s) made to such agencies, entities, and persons from the following systems or records when authorized by statute to assist in connection with its mission. The existence and characters of HUD's completed Privacy Act systems of records can be viewed on the agency's Web site at: http://www.hud.gov/offices/cio/privacy/pia/fednotice.cfm and currently consist of the following:

System code | System title
FHEO-01 | Equal Employment Opportunity Monitoring and Analysis System.
HUD/ADMIN-01 | Transit Subsidy System.
HUD/ADM-02 | HUD's Direct Distribution Center System.
HUD/ADMIN-03 | One Touch Student Response System.
HUD/ADMIN-04 | Training Information System.
HUD/ADMIN-05 | Training Announcement, Nomination, and Confirmation System.
HUD/ADMIN-06 | Personal Security Files.
HUD/ADMIN-08 | Grants Interface Management System.
HUD/ADMIN-09 | Correspondence Tracking System.
HUD/CFO/01 | HUD Central Accounting and Program System.
HUD/CFO-02 | Audit Resolution and Corrective Action Tracking System.
HUD/CFO-03 | Line of Credit Control Systems.
HUD/CFO-04 | Integrated Automated Travel System.
HUD/CFO-05 | Personal Services Cost SubSystem.
HUD/CFO-06 | Financial Data Mart.
HUD/CPD-1 | Rehabilitation Loans-Delinquent/Default.
HUD/CPO-1 | HUD Integrated Acquisition Management System.
HUD/DEPT-1 | Accidents, Employees and/or Government Vehicles.
HUD/DEPT-2 | Accounting Records.
HUD/DEPT-4 | Fee Inspectors and Appraisers.
HUD/DEPT-5 | Architects and Engineers.
HUD/DEPT-10 | Single Family Construction Complaints Files.
HUD/DEPT-15 | Equal Opportunity Housing Complaints.
HUD/DEPT-20 | Single Family Homeownership Assistance Application and Recertification.
HUD/DEPT-22 | Housing Counseling.
HUD/DEPT-23 | Single-Family Research Files.
HUD/DEPT-24 | Investigation File.
HUD/DEPT-25 | Legal Actions Files.
HUD/DEPT-28 | Property Improvement and Manufactured (Mobile) Home Loans—Default.
HUD/DEPT-29 | Rehabilitation Grants and Loans Files.
HUD/DEPT-32 | Mortgages—Delinquent/Default/Assigned/Temporary Mortgage Assistance Payments (TMAP) Program.
HUD/DEPT-34 | Pay and Leave Records of Employees.
HUD/DEPT-37 | Personnel Travel System.
HUD/DEPT-42 | Rent Subsidy Program Files.
HUD/DEPT-43 | Property Disposition Files (A43; A43C; A80S).
HUD/DEPT-44 | Relocation Assistance Files (Revalidate Deletion).
HUD/DEPT-46 | Single Family Case Files.
HUD/DEPT-51 | Standards of Conduct Files.
HUD/DEPT-52 | Privacy Act Requesters.
HUD/DEPT-53 | Consumer Complaint Handling System.
HUD/DEPT-54 | Parking Permit Application Files.
HUD/DEPT-56 | Telephone Numbers of HUD Officials.
HUD/DEPT-62 | Claims Collection Records.
HUD/DEPT-63 | Secretary's Correspondence Control System.
HUD/DEPT-64 | Congregate Housing Services Program Data Files.
HUD/DEPT-65 | IDEAS Program Case Files.
HUD/DEPT-66 | Grievance Records.
HUD/DEPT-67 | Employee Counseling and Occupational Health Records.
HUD/DEPT-68 | HUD Government Motor Vehicle Operators Records.
HUD/DEPT-69 | Intergovernmental Personnel Act Assignment Records.
HUD/DEPT-71 | Identity Management System. (IDMS) formerly Employee Identification File
HUD/DEPT-72 | Congressional Correspondence Files (Communication Control System).
HUD/DEPT-73 | Government Property on Personal Charge Files.
HUD/DEPT-74 | Executive Emergency Cascade Alerting System.
HUD/DEPT-75 | Priority Consideration/Special Reassignment Files.
HUD/DEPT-76 | HUD Employee Locator File.
HUD/DEPT-77 | Audit Planning and Operations System (APOS).
HUD/DEPT-78 | Government National Mortgage Association Registry of Foreclosure Attorneys.
HUD/DEPT-80 | Long Distance Telephone Call Detail System.
HUD/DEPT-81 | Ethics Filings.
HUD/DEPT-82 | ADP Security Clearance Information System.
HUD/EC-01 | Compliance Case Tracking System.
HUD/EC-02 | Departmental Tracking System.
HUD/FHEO-06 | Title Eight Automated Paperless Office Tracking System (TEAPOTs).
HUD/GNMA-01 | Mortgage-backed Securities Unclaimed Funds System.
HUD/GNMA-02 | Master Subservicer System.
HUD/H-3 | Single Family Housing Monitoring System.
HUD/H-5 | Single Family Computerized Homes Underwriting Management System.
HUD/H-6 | Single Family Section 518 Files (Constructed Complaints).
HUD/H-7 | Previous Participation Review System and Active Partners Performance System Previous Participation Files.
HUD/H-8 | Property Rental Files/Integrated Disbursement and Information System.
HUD/H-9 | Property Management Records.
HUD/H-11 | Tenant Housing Assistance and Contract Verification Data.
HUD/H-12 | Housing Compliance Files.
HUD/HS-10 | Single Family Insurance System and Home Equity Conversion Mortgage System.
HUD/HS-15 | Single Family Enterprise Data Warehouse System.
HUD/HS-16 | Single Family Neighborhood Watch Early Warning System.
HUD/HS-22 | Housing Counseling System (HCS) sub-module Client Activity Report System (CARs).
HUD/HS-54 | Title I Insurance System.
HUD/HS-55 | Debt Collection and Asset Management System.
HUD/HS-56 | Distributive Shares and Refunds System.
HUD/HS-57 | Single Family Mortgage Notes System.
HUD/HS-58 | Asset Disposition and Management System.
HUD/HS-60 | Nonprofit Data Management System/Institution Master File.
HUD/HSG-01 | Single Family Housing Enterprise Data Warehouse.
HUD/MFH-08 | Development Application Processing System.
HUD/MFH-10 | Real Estate Management System/Integrated Real Estate Management System.
HUD/PD&R-01 | HUD Veterans Homelessness Preventive Demonstration Evaluation Data Files System.
HUD/PD&R-6 | Real Estate Settlement Cost Research Files.
HUD/PD&R-7 | Section 8 Program Research Data Files.
HUD/PD&R-8 | Income Certification Evaluation Data Files.
HUD/PD&R-9 | HUD USER File for Research Products, Services and Publications.
HUD/PD&R-10 | Housing Counseling Research Data Files/Homeless Families Impact Study Data Files.
HUD/PD&R-11 | Rapid Re-Housing for Homeless Data.
HUD/PIH-01 | Inventory Management System formerly Public and Indian Housing Information Center (PIC).
HUD/PIH-02 | HUD Veterans Affairs Supportive Housing System.
HUD/PIH-5 | Enterprise Income Verification.
HUD/PIH-06 | Tracking-At-A-Glance.
HUD/PIH-07 | Disaster Information System (DIS).
HUD/PIH-08 | Efforts to Outcome Case Management System/Case Management System for the Disaster Housing Assistance Program (DHAP-IKE).
HUD/OIG-1 | Investigative Files.
HUD/OIG-2 | Hotline Complaint Files.
HUD/OIG-3 | Name Indices System.
HUD/OIG-4 | Independent Auditor Monitoring Files.
HUD/OIG-5 | AutoAudit.
HUD/OIG-6 | AutoInvestigation.
HUD/OIG-7 | Giglio Information Files.
HUD/REAC-2 | Independent Public Accountant Quality Assurance Files.
HUD/REAC-3 | Quality Assurance/Quality Control Administrative.
HUD/HS-52 | Single Family Acquired Asset Management System.
HUD/HS-54 | Title I Insurance System.
HUD/HS-59 | Single Family Mortgage Notes Recovery Technology System.
HUD/HS-60 | Institution Master File/Nonprofit Data Management System.
HUD/OHHLHC-1 | Compliance Investigation and Enforcement Files (“CHIEF”).
HUD/SFH-01 | Single Family Default Monitoring System.
HUD/SF-02 | Single Family Insurance System CLAIMS SubSystem.
HUD/SF01.2502 | Lender Electronic Assessment Portal.
ODEEO-1 | Equal Employment Opportunity Monitoring and Analysis System.
OFHEO-1 | Financial Management System.
OFHEO-2 | Pay and Leave System.
OFHEO-3 | Employee Identification Card System.
OFHEO-4 | Property Inventory System.
OFHEO-5 | Senior Staff Biography System.

Accordingly, this notice establishes routine uses for all records within HUD's systems of records inventory, which is subject to the Privacy Act of 1974, as amended. Additionally, the text of many of these routine uses model best practices that have already been adopted by several agencies; including the Department of Justice for the same purpose described in this notice. Records contained in this system notice that have been placed on HUD's Public Record domain are available upon request.

In addition to the disclosures generally permitted under 5 U.S.C. 552a(b), and the routine uses specifically described in each system of records notice, records or information in the systems of records maintained by the Department may be disclosed pursuant to 5 U.S.C. 552a(b)(3) as described below under Appendix I, provided that no routine use specified herein shall be construed to limit or waive any other routine use or exemption specified in the text of the individual system of records notice.

Pursuant to 5 U.S.C. 552a(k)(2), records in these system notices, and any others which reflect records that are designated as exempt, from the requirements of certain subsections of (c)(3), (d), (e)(1), (e)(4)(G), (H), (I), and/or (f) of 5 U.S.C. 552a under a promulgated Rule, or those that are restricted from release by statutory or regulatory requirements are prohibited from disclosure (to which shall apply only to those exemptions established in the records system notice for the particular system).

Authority: 5 U.S.C. 552a.

Dated: June 27, 2012.
Kevin R. Cooke,
Deputy Chief Information Officer.

Appendix I

HUD's Library of Routine Uses

Authorized disclosures applicable to one or more HUD Privacy Act system of records. The Privacy Act allows HUD to disclose its Privacy Act records in the following manner to appropriate agencies, entities, and persons below to the extent such disclosures are compatible with the purpose for which the record was collected, as set forth in each system of records notice and in the following paragraphs (1)-(19), provided that no routine use specified herein shall be construed to limit or waive any other routine use or exemption specified either herein or in the text of the individual system of records notice. (These routine uses are not meant to exclude prior routine use publications and may overlap in some cases.)

(1) To a recipient who has provided the agency with advance adequate written assurance that the record will be used solely as a statistical research or reporting record, and the record is to be transferred in a form that is not individually identifiable.

(2) To the National Archives and Records Administration (NARA) and the General Services Administration (GSA) for records having sufficient historical or other value to warrant its continued preservation by the United States Government, or for inspection under authority of Title 44, Chapter 29, of the United States.

(3) To a congressional office from the record of an individual in response to an inquiry from the congressional office made at the request of that individual.

(4) To appropriate Federal, state, local government, or person pursuant to a showing of compelling circumstances affecting the health or safety or vital interest of an individual or data subject, including assisting such agency(ies) or organizations in preventing the exposure to or transmission of a communicable or quarantinable disease or to combat other significant public health threats; if upon such disclosure appropriate notice is transmitted to the last known address of such individual identify the health threat or risk.

(5) To a consumer reporting agency, when trying to collect a claim of the Government, in accordance with 31 U.S.C. 3711(e).

(6) To contractors, grantees, experts, consultants, and the agents of thereof, and others performing or working on a contract, service, grant, cooperative agreement with HUD, when necessary to accomplish an agency function related to its system of records, limited to only those data elements considered relevant to accomplishing an agency function. Individuals provided information under this routine use is subject to the same Privacy Act requirements and limitations on disclosure as are applicable to HUD officers and employees.

(7) To other Federal agencies or non-Federal entities with whom HUD has an approved computer matching effort, limited to only those data elements considered relevant to determine eligibility under a particular benefit programs administered by those agencies or entities or by HUD or any component thereof, to improve program integrity, and to collect debts and other monies owed under those programs.

(8) To contractors, experts, consultants with whom HUD has a contract, service agreement or other assignment of the Department, when necessary to utilize relevant data for purposes of testing new technology and systems designed to enhance program operations and performance.

(9) To contractors, grantees, experts, consultants, Federal agencies, and non-Federal entities including but not limited to state and local governments, and other research institutions or their parties entities and their agents with whom HUD has a contract, service agreement, grant, cooperative agreement with HUD, when necessary to accomplish an agency function related to a system of records for the purposes of statistical analysis and research in support of program operations, management, performance monitoring, evaluation, risk management, and policy development, or to otherwise support the Department's mission. Records under this routine use may not be used in whole or in part to make decisions that affect the rights, benefits or privileges of specific individuals. The results of the matched information may not be disclosed in identifiable form.

(10) To other Federal agencies or non-Federal entities, including but not limited to state and local government entities with whom HUD has a contract, service agreement, grant, cooperative agreement, or computer matching agreement to assist such agencies with preventing and detecting improper payments, or fraud, or abuse in major programs administered by the Federal government, or abuse by individuals in their operations and programs, but only to the extent that the information is necessary and relevant to preventing improper payments for services rendered under a particular Federal or non-federal benefits programs of HUD or any of their components to verify pre-award and pre-payment requirements prior to the release of Federal Funds.

(11) To appropriate agencies, entities, and persons when: (a) HUD suspects or has confirmed that the security or confidentiality of information in a system of records has been compromised; (b) HUD has determined that as a result of the suspected or confirmed compromise there is a risk of harm to economic or property interests, identity theft or fraud, or harm to the security or integrity of systems or programs (whether maintained by HUD or another agency or entity) that rely upon the compromised information; and c) the disclosure made to such agencies, entities, and persons is reasonably necessary to assist in connection with HUD's efforts to respond to the suspected or confirmed compromise and prevent, minimize, or remedy such harm for purposes of facilitating responses and remediation efforts in the event of a data breach.

Case Specific Actions, HUD may disclose records compatible to one of its system of records notices during case specific circumstances, when appropriate, as follows:

(12) To appropriate Federal, state, local, tribal, or governmental agencies or multilateral governmental organizations responsible for investigating or prosecuting the violations of, or for enforcing or implementing, a statute, rule, regulation, order, or license, where HUD determines that the information would assist in the enforcement of civil or criminal laws.

(13) To third parties during the course of a law enforcement investigation to the extent necessary to obtain information pertinent to the investigation, provided disclosure is appropriate to the proper performance of the official duties of the officer making the disclosure.

(14) To a court, magistrate, or administrative tribunal in the course of presenting evidence, including disclosures to opposing counsel or witnesses in the course of civil discovery, litigation, or settlement negotiations or in connection with criminal law proceedings or in response to a subpoena or to a prosecution request when such records to be released are specifically approved by a court provided order.

(15) To appropriate Federal, state, local, tribal, or governmental agencies or multilateral governmental organizations responsible for investigating or prosecuting the violations of, or for enforcing or implementing, a statute, rule, regulation, order, or license, where HUD determines that the information would assist in the enforcement of civil or criminal laws.

(16) To third parties during the course of a law enforcement investigation to the extent necessary to obtain information pertinent to the investigation, provided disclosure is appropriate to the proper performance of the official duties of the officer making the disclosure.

(17) To the Department of Justice (DOJ) when seeking legal advice for a HUD initiative or in response to DOJ's request for the information, after either HUD or DOJ determine that such information is relevant to DOJ's representatives of the United States or any other components in legal proceedings before a court or adjudicative body, provided that, in each case, the agency also determines prior to disclosure that disclosure of the records to the DOJ is a use of the information contained in the records that is compatible with the purpose for which HUD collected the records. HUD on its own may disclose records in this system of records in legal proceeding before a court or administrative body after determining that the disclosure of the records to the court of administrative body is a use of the information contained in the records that is compatible with the purpose for which HUD collected the records.

(18) To another agency or to an instrumentality of any governmental jurisdiction within or under the control of the United States for a civil or criminal law enforcement activity if the activity is authorized by law, and if the head of the agency or instrumentality has made a written request to the agency which maintains the record specifying the particular portion desired and the law enforcement activity for which the record is sought.

(19) To contractors, grantees, experts, consultants, Federal agencies, and non-Federal entities including but not limited to state and local governments, with whom HUD has a contract, service agreement, grant, cooperative agreement with the Department of Housing and Urban Development for statistical analysis to advance the goals of the nation's federal strategic plan to prevent and end veterans homelessness. The records may not be used to make decisions concerning the rights, benefits, or privileges of specific individuals, or providers of services with respect to homeless veteran's efforts.

[FR Doc. 2012-17364 Filed 7-16-12; 8:45 am]

BILLING CODE 4210-67-P